ENVIRONMENTAL PROTECTION AGENCY

40 CFR Part 50

[EPA-HQ-OAR-2015-0072; FRL-8635-05-OAR]

RIN 2060-AV52

Public Hearing for the Reconsideration of the National Ambient Air Quality Standards for Particulate Matter

AGENCY: Environmental Protection Agency (EPA).

ACTION: Notification of public hearing.

SUMMARY: The Environmental Protection Agency (EPA) is announcing that a virtual public hearing will be held for the proposed action titled, “Reconsideration of the National Ambient Air Quality Standards for Particulate Matter,” which was signed on January 5, 2023. The hearing will be held on Tuesday, February 21, 2023, and Wednesday, February 22, 2023. Based on the EPA's reconsideration of the air quality criteria and the national ambient air quality standards (NAAQS) for particulate matter (PM), the EPA proposes to revise the primary annual PM2.5 standard by lowering the level. The Agency proposes to retain the current primary 24-hour PM2.5 standard and the primary 24-hour PM10 standard. The Agency also proposes not to change the secondary 24-hour PM2.5 standard, secondary annual PM2.5 standard, and secondary 24-hour PM10 standard at this time. The EPA also proposes revisions to other key aspects related to the PM NAAQS, including revisions to the Air Quality Index (AQI) and monitoring requirements for the PM NAAQS.

DATES: Comments on the proposed action must be received on or before March 28, 2023. Public Hearing: The EPA will hold a virtual public hearing on Tuesday, February 21, 2023, and Wednesday, February 22, 2023. If the EPA receives a high volume of registrations for the public hearing, we may continue the public hearing on February 23, 2023. (Please refer to the SUPPLEMENTARY INFORMATION section for additional information on the public hearings).

ADDRESSES: You may submit comments, identified by Docket ID No. EPA-HQ-OAR-2015-0072, by any of the following means:

• Federal eRulemaking Portal: https://www.regulations.gov/ (our preferred method). Follow the online instructions for submitting comments.

• Email: a-and-r-Docket@epa.gov. Include the Docket ID No. EPA-HQ-OAR-2015-0072 in the subject line of the message.

• Mail: U.S. Environmental Protection Agency, EPA Docket Center, Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov, including any personal information provided. For detailed instructions on sending comments and additional information on the rulemaking process, see the SUPPLEMENTARY INFORMATION section of this document.

Virtual Public Hearing: The public hearing will be held via virtual platform on February 21, 2023, and February 22, 2023, and will convene at 11 a.m. Eastern Time (ET) and conclude at 7 p.m. ET each day. On each hearing day, the EPA may close a session 15 minutes after the last pre-registered speaker has testified if there are no additional speakers. The EPA will announce further details at https://www.epa.gov/pm-pollution/national-ambient-air-quality-standards-naaqs-pm. If the EPA receives a high volume of registrations for the public hearing, we may continue the public hearing on February 23, 2023. Refer to the SUPPLEMENTARY INFORMATION section below for additional information.

FOR FURTHER INFORMATION CONTACT: For information or questions about the public hearing, please contact the public hearing team at 919-541-0505 or HEIDpublichearing@epa.gov.

For information or questions regarding the reconsideration of the PM NAAQS, please contact Dr. Lars Perlmutt, Health and Environmental Impacts Division, Office of Air Quality Planning and Standards, U.S. Environmental Protection Agency, Mail Code C539-04, Research Triangle Park, NC 27711; telephone: (919) 541-3037; fax: (919) 541-5315; email: perlmutt.lars@epa.gov.

SUPPLEMENTARY INFORMATION: The EPA is reconsidering the PM NAAQS because the available scientific evidence and technical information indicate that the current standards may not be adequate to protect public health and welfare, as required by section 109 (42 U.S.C. 7409) of the Clean Air Act. The proposed action for which the EPA is holding a public hearing was signed on January 5, 2023, and is available at https://www.epa.gov/naaqs/particulate-matter-pm-standards-federal-register-notices-current-review. The public hearing will provide interested parties the opportunity to present data, views, or arguments concerning the EPA's proposed decisions in the reconsideration of the PM NAAQS. Written statements and supporting information submitted during the comment period will be considered with the same weight as any oral comments and supporting information presented at the public hearing.

Written Comments: Submit your comments, identified by Docket ID No. EPA-HQ-OAR-2015-0072, at https://www.regulations.gov (our preferred method), or the other methods identified in the ADDRESSES section. Once submitted, comments cannot be edited or removed from the docket. The EPA may publish any comment received to its public docket. Do not submit electronically any information that you consider to be Confidential Business Information (CBI) or other information whose disclosure is restricted by statute. Multimedia submissions (audio, video, etc.) must be accompanied by a written submission. The written submission is considered the official submission and should include discussion of all points you wish to make. The EPA will generally not consider submissions or submission content located outside of the primary submission (i.e., on the web, cloud or other file sharing system). For additional submission methods, the full EPA public comment policy, information about CBI or multimedia submissions, and general guidance on making effective comments, please visit https://www.epa.gov/dockets/commenting-epa-dockets.

Participating in Virtual Public Hearings: The public hearing will be held via virtual platform on February 21, 2023, and February 22, 2023, and will convene at 11 a.m. Eastern Time (ET) and conclude at 7 p.m. ET each day. On each hearing day, the EPA may close a session 15 minutes after the last pre-registered speaker has testified if there are no additional speakers. The EPA will announce further details at https://www.epa.gov/pm-pollution/national-ambient-air-quality-standards-naaqs-pm. If the EPA receives a high volume of registrations for the public hearing, we may continue the public hearing on February 23, 2023.

The EPA will begin pre-registering speakers for the hearing upon publication of this document in the Federal Register. To register to speak at the virtual hearing, please follow the directions at https://www.epa.gov/pm-pollution/national-ambient-air-quality-standards-naaqs-pm or contact the public hearing team at 919-541-0505 or by email at HEIDpublichearing@epa.gov. The last day to pre-register to speak at the hearing will be February 16, 2023. Prior to the hearing, the EPA will post a general agenda for the hearing that will list the pre-registered speakers in approximate order at: https://www.epa.gov/pm-pollution/national-ambient-air-quality-standards-naaqs-pm. The EPA will make every effort to follow the schedule as closely as possible on the day of the hearing; however, please plan for the hearings to run either ahead of schedule or behind schedule. Each commenter will have 5 minutes to provide oral testimony. The EPA encourages commenters to provide the EPA with a copy of their oral testimony by submitting the text of your oral testimony as written comments to the rulemaking docket. The EPA may ask clarifying questions during the oral presentations but will not respond to the presenters at that time. Written statements and supporting information during the comment period will be considered with the same weight as oral comments and supporting information presented at the public hearing. Please note that any updates made to any aspect of the hearing is posted online at https://www.epa.gov/pm-pollution/national-ambient-air-quality-standards-naaqs-pm. While the EPA expects the hearing to go forward as set forth above, please monitor our website or contact the public hearing team at 919-541-0505 or HEIDpublichearing@epa.gov to determine if there are any updates. The EPA does not intend to publish a document in the Federal Register announcing updates.

If you require the services of a translator or special accommodations such as audio description, please pre-register for the hearing with the public hearing team and describe your needs by February 7, 2023. The EPA may not be able to arrange accommodations without advance notice.

How can I get copies of the proposed action and other related information? The EPA has established a docket under Docket ID No. EPA-HQ-OAR-2015-0072 (available at https://www.regulations.gov). The EPA has also made available information related to the proposed action on the following website: https://www.epa.gov/naaqs/particulate-matter-pm-air-quality-standards.

Panagiotis Tsirigotis,
Director, Office of Air Quality Planning and Standards.

[FR Doc. 2023-01924 Filed 1-30-23; 8:45 am]

BILLING CODE 6560-50-P